DEPARTMENT OF EDUCATION

Notice of Final Competitive Preference for Fiscal Year 2001 and Subsequent Fiscal Years

AGENCY: Department of Education.

SUMMARY: The Assistant Secretary for the Office of Special Education and Rehabilitative Services (OSERS) announces the addition of a competitive preference to certain grant competitions for fiscal year 2001 and subsequent fiscal years. This notice contains and describes the additional competitive preference and lists the programs to which it applies.

EFFECTIVE DATE: This competitive preference takes effect on December 22, 2000.

FOR FURTHER INFORMATION CONTACT: Ann Queen, U.S. Department of Education, 400 Maryland Avenue, SW., room 3317, Switzer Building, Washington, DC 20202-2550. Telephone: (202) 205-8285 or via Internet: Ann_Queen@ed.gov.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION: This notice contains language for adding a final competitive preference to competitions under the following 11 programs, which are authorized under the Rehabilitation Act of 1973, as amended. Information on how we evaluate applications for each of these programs follows in parentheses:

84.128G—Migrant and Seasonal Farmworkers Program (34 CFR 75.200).

84.128J—Recreational Programs (34 CFR 75.200).

84.132—Centers for Independent Living (34 CFR 366.26).

84.133A—Disability and Rehabilitation Research Projects and Centers Program (34 CFR 350.53).

84.133B—Rehabilitation Research and Training Centers (34 CFR 350.53).

84.133D—Knowledge Dissemination and Utilization (34 CFR 350.53).

84.133E—Rehabilitation Engineering Research Centers (34 CFR 350.53).

84.133N—Special Projects and Demonstrations for Spinal Cord Injuries (34 CFR 359.30).

84.234—Projects With Industry (34 CFR 379.30).

84.235—Special Demonstration Programs (34 CFR 75.200)

84.250—Vocational Rehabilitation Service Projects for American Indians with Disabilities (34 CFR 75.200).

On September 7, 2000 the Assistant Secretary for OSERS published a notice of proposed competitive preference for these programs in the Federal Register (65 FR 54394). Except for minor editorial and technical revisions, there are no differences between the notice of proposed competitive preference and this notice of final competitive preference.

Analysis of Comments and Changes

In response to our invitation in the notice of proposed competitive preference, two parties submitted comments on the proposed additional competitive preference. An analysis of the comments follows.

Comment: One commenter supported the proposed competitive preference.

Discussion: None.

Change: None.

Comment: The other commenter noted that it may be difficult to substantiate information on people with disabilities serving as project staff. Some people with disabilities prefer not to disclose those disabilities.

Discussion: Based upon experience with current and former grantees, the Assistant Secretary believes that substantiation will be a minor issue.

Change: None.

Note: This notice does not solicit applications. In any year in which the Assistant Secretary chooses to use this priority, we invite applications through a notice in the Federal Register.

Competitive Preference

Under 34 CFR 75.105(c)(2)(i) the Assistant Secretary adds a competitive preference to applications that are otherwise eligible for funding under the ll previously mentioned programs.

The maximum score under the selection criteria for each of these programs is 100 points; however, we will also use the following competitive preference so that up to an additional 10 points may be earned by an applicant for a total possible score of 110 points.

Up to 10 points may be earned based on the extent to which an application includes effective strategies for employing and advancing in employment qualified individuals with disabilities as project employees in projects awarded under these programs. In determining the effectiveness of those strategies, we will consider the applicant's prior success, as described in the application, in employing and advancing in employment qualified individuals with disabilities.

Therefore, within this competitive preference, applicants can be awarded up to a total of 10 points in addition to those awarded under the published selection criteria noted previously in parentheses after each program. That is, an applicant meeting this competitive preference could earn a maximum total of 110 points.

Goals 2000: Educate America Act

The Goals 2000: Educate America Act (Goals 2000) focuses the Nation's education reform efforts on the eight National Education Goals and provides a framework for meeting them. Goals 2000 promotes new partnerships to strengthen schools and expands the Department's capacities for helping communities to exchange ideas and obtain information needed to achieve the goals.

This competitive preference supports the National Education Goal that calls for every American to possess the skills necessary to compete in a global economy.

Intergovernmental Review

These programs are subject to Executive Order 12372 and the regulations in 34 CFR part 79. One of the objectives of the Executive order is to foster an intergovernmental partnership and a strengthened federalism. The Executive order relies on processes developed by State and local governments for coordination and review of proposed Federal financial assistance.

This document provides early notification of our specific plans and actions for these programs.

Electronic Access to This Document

You may view this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the preceding sites. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

Applicable Program Regulations: 34 CFR parts 350, 359, 366, 371, and 379.

Program Authority: 29 U.S.C. 709(c), 741, 764, 773, 774, 775, 795, and 796f-796f-5.

(Catalog of Federal Domestic Assistance Numbers: 84.128G-Migrant and Seasonal Farmworkers Program; 84.128J-Recreational Program; 84.132-Centers for Independent Living; 84.133A-Disability and Rehabilitation Research Projects and Centers Program; 84.133B-Rehabilitation Research and Training Centers; 84.133D-Knowledge Dissemination and Utilization; 84.133E-Rehabilitation Engineering Research Centers; 84.133N-Special Projects and Demonstrations for Spinal Cord Injuries; 84.234-Projects With Industry; 84.235-Special Demonstration Programs; and 84.250-Vocational Rehabilitation Service Projects for American Indians with Disabilities).

Dated: November 16, 2000.
Judith E. Heumann,
Assistant Secretary for Special Education and Rehabilitative Services.

[FR Doc. 00-29817 Filed 11-21-00; 8:45 am]

BILLING CODE 4000-01-U